DEPARTMENT OF JUSTICE

Notice of Lodging of Proposed Consent Decree under the Clean Water Act

On December 19, 2013, the Department of Justice lodged a proposed Consent Decree with the United States District Court for the District of Connecticut in the lawsuit entitled United States v. City of West Haven, Connecticut, Civil Action No. 3:13-cv-01883-JCH.

In the Complaint the United States, on behalf of the U.S. Environmental Protection Agency (EPA), alleges that the defendant City of West Haven (“West Haven”) violated the Clean Water Act (“CWA”), 33 U.S.C. 1251, et seq., and applicable regulations relating to West Haven's unauthorized discharges from the waste water collection system owned and operated by the City. Specifically, the United States alleges that on numerous occasions between January 1, 2007, and December 31, 2011, the collection system experienced sanitary sewer overflows (“SSOs”), resulting in the discharge of untreated municipal wastewater containing pollutants from unpermitted point sources to waters of the United States. The Consent Decree requires West Haven to pay a civil penalty of $125,000 in three installments, with interest, divided between the United States and the State of Connecticut, and to undertake various measures to study and correct the problems causing the SSOs in order to achieve compliance with the CWA and applicable regulations.

The publication of this notice opens a period for public comment on the Consent Decree. Comments should be addressed to the Assistant Attorney General, Environment and Natural Resources Division, and should refer to United States v. City of West Haven, Connecticut, D.J. Ref. No. 90-5-1-1-10543. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $13.00 (25 cents per page reproduction cost), not including Appendices, payable to the United States Treasury.

Maureen Katz,
Assistant Chief, Environmental Enforcement Section, Environment & Natural Resources Division.

[FR Doc. 2013-31032 Filed 12-26-13; 8:45 am]

BILLING CODE 4410-15-P